DEPARTMENT OF ENERGY

Federal Energy Regulatory Commission

Combined Notice of Filings #1

Take notice that the Commission received the following electric rate filings:

Docket Numbers: ER18-1839-001.

Applicants: ExxonMobil Baton Rouge Complex.

Description: Compliance filing: Compliance to 8202015 to be effective 6/26/2018.

Filed Date: 7/10/18.

Accession Number: 20180710-5000.

Comments Due: 5 p.m. ET 7/31/18.

Docket Numbers: ER18-1981-000.

Applicants: Pratt Wind, LLC.

Description: Baseline eTariff Filing: Pratt Wind, LLC Application for Market-Based Rates to be effective 9/1/2018.

Filed Date: 7/9/18.

Accession Number: 20180709-5105.

Comments Due: 5 p.m. ET 7/30/18.

Docket Numbers: ER18-1982-000.

Applicants: Midcontinent Independent System Operator, Inc.

Description: § 205(d) Rate Filing: 2018-07-09_MISO 2nd Quarter Tariff Clean-Up Filing to be effective 1/1/2012.

Filed Date: 7/9/18.

Accession Number: 20180709-5111.

Comments Due: 5 p.m. ET 7/30/18.

Docket Numbers: ER18-1983-000.

Applicants: Silver Run Electric, LLC, PJM Interconnection, L.L.C.

Description: § 205(d) Rate Filing: Silver Run and NTD submit revisions to OATT to reflect Notice of Succession to be effective 6/27/2018.

Filed Date: 7/9/18.

Accession Number: 20180709-5115.

Comments Due: 5 p.m. ET 7/30/18.

Docket Numbers: ER18-1984-000.

Applicants: Big Level Wind LLC.

Description: Baseline eTariff Filing: Application for Market-Based Rate Authorization to be effective 9/8/2018.

Filed Date: 7/9/18.

Accession Number: 20180709-5127.

Comments Due: 5 p.m. ET 7/30/18.

Docket Numbers: ER18-1986-000.

Applicants: Duke Energy Florida, LLC.

Description: Notice of Cancellation of Standard Large Generator Interconnection Ageement (SA No. 129) of Duke Energy Florida, LLC.

Filed Date: 7/9/18.

Accession Number: 20180709-5136.

Comments Due: 5 p.m. ET 7/30/18.

Take notice that the Commission received the following electric securities filings:

Docket Numbers: ES18-46-000.

Applicants: Silver Run Electric, LLC.

Description: Application for Authorization Under Section 204 of the Federal Power Act to Issue Securities of Silver Run Electric, LLC.

Filed Date: 7/9/18.

Accession Number: 20180709-5153.

Comments Due: 5 p.m. ET 7/30/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 10, 2018.
Nathaniel J. Davis, Sr.,
Deputy Secretary.

[FR Doc. 2018-15117 Filed 7-13-18; 8:45 am]

BILLING CODE 6717-01-P